DEPARTMENT OF COMMERCE

International Trade Administration

[A-201-845]

Sugar From Mexico: Continuation of Suspension of the Antidumping Duty Investigation

AGENCY: Enforcement and Compliance, International Trade Administration, Department of Commerce.

SUMMARY: As a result of determinations by the U.S. Department of Commerce (Commerce) that the termination of the Agreement Suspending the Antidumping Duty Investigation on Sugar from Mexico, as amended (AD Agreement), and the suspended antidumping duty (AD) investigation would be likely to lead to continuation or recurrence of dumping, and by the U.S. International Trade Commission (ITC) that termination of the suspended investigation would be likely lead to continuation or recurrence of material injury to an industry in the United States, Commerce is publishing this notice of continuation of the AD Agreement.

DATES: Applicable September 9, 2025.

FOR FURTHER INFORMATION CONTACT: Sally C. Gannon or Samantha Fino, Enforcement and Compliance, International Trade Administration, U.S. Department of Commerce, 1401 Constitution Avenue NW, Washington, DC 20230; telephone: (202) 482-0162 or (202) 482-2861, respectively.

SUPPLEMENTARY INFORMATION:

Background

On December 19, 2014, Commerce and producers/exporters accounting for substantially all imports of sugar from Mexico signed the AD Agreement.¹ On March 3, 2025, the ITC instituted,² and Commerce initiated,³ the second sunset review of the AD Agreement and the suspended AD investigation on Sugar from Mexico, pursuant to section 751(c) of the Tariff Act of 1930, as amended (the Act). As a result of its review, Commerce determined that termination of the AD Agreement and the suspended AD investigation on Sugar from Mexico would likely lead to a continuation or recurrence of dumping and, therefore, notified the ITC of the magnitude of the margin likely to prevail should the AD Agreement be terminated.⁴

¹ See Sugar from Mexico: Suspension of Antidumping Investigation, 79 FR 78039 (December 29, 2014); see also Sugar from Mexico: Amendment to the Agreement Suspending the Antidumping Duty Investigation, 85 FR 3620 (January 22, 2020).

² See Sugar from Mexico; Institution of Five-Year Reviews, Investigation Nos. 701-TA-513 and 731-TA-1249 (Second Review), 90 FR 11062 (March 3, 2025).

³ See Initiation of Five-Year (Sunset) Reviews, 90 FR 11039 (March 3, 2025).

⁴ See Sugar from Mexico: Final Results of the Expedited Second Sunset Review of the Agreement Suspending the Antidumping Duty Investigation, 90 FR 30048 (July 8, 2025), and accompanying Issues and Decision Memorandum.

On September 9, 2025, pursuant to section 751(c) of the Act, the ITC published its determination that termination of the suspended AD investigation Sugar from Mexico would be likely to lead to continuation or recurrence of material injury to an industry in the United States within a reasonably foreseeable time.⁵

⁵ See Sugar from Mexico; Determinations, Investigation Nos. 701-TA-513 and 731-TA-1249 (Second Review), 90 FR 43474 (September 9, 2025) (ITC Final Determination).

Scope of the AD Agreement

The merchandise subject to the AD Agreement is raw and refined sugar of all polarimeter readings derived from sugar cane or sugar beets. The chemical sucrose gives sugar its essential character. Sucrose is a nonreducing disaccharide composed of glucose and fructose linked by a glycosidic bond via their anomeric carbons. The molecular formula for sucrose is C12H22O11; the International Union of Pure and Applied Chemistry (IUPAC) International Chemical Identifier (InChl) for sucrose is 1S/C12H22O11/c13-l-4-6(16)8(18)9(19)11(21-4)23-12(3-15)10(20)7(17) 5(2-14)22-12/h4-11,13-20H,1-3H2/t4-,5-,6-,7-,8+,9-,10+,11-,12+/m1/s1; the InChl Key for sucrose is CZMRCDWAGMRECN-UGDNZRGBSA-N; the U.S. National Institutes of Health PubChem Compound Identifier (CID) for sucrose is 5988; and the Chemical Abstracts Service (CAS) Number of sucrose is 57-50-1.

Sugar described in the previous paragraph includes products of all polarimeter readings described in various forms, such as raw sugar, estandar or standard sugar, high polarity or semi-refined sugar, special white sugar, refined sugar, brown sugar, edible molasses, de-sugaring molasses, organic raw sugar, and organic refined sugar. Other sugar products, such as powdered sugar, colored sugar, flavored sugar, and liquids and syrups that contain 95 percent or more sugar by dry weight are also within the scope of this Agreement.

The scope of the AD Agreement does not include (1) sugar imported under the Refined Sugar Re-Export Programs of the U.S. Department of Agriculture; ⁶ (2) sugar products produced in Mexico that contain 95 percent or more sugar by dry weight that originated outside of Mexico; (3) inedible molasses (other than inedible desugaring molasses noted above); (4) beverages; (5) candy; (6) certain specialty sugars; and (7) processed food products that contain sugar (e.g., cereals). Specialty sugars excluded from the scope of this Agreement are limited to the following: caramelized slab sugar candy, pearl sugar, rock candy, dragees for cooking and baking, fondant, golden syrup, and sugar decorations.

⁶ This exclusion applies to sugar imported under the Refined Sugar Re-Export Program, the Sugar-Containing Products Re-Export Program, and the Polyhydric Alcohol Program administered by the U.S. Department of Agriculture.

Merchandise covered by this AD Agreement is typically imported under the following headings of the HTSUS: 1701.12.1000, 1701.12.5000, 1701.13.1000, 1701.13.5000, 1701.14.1020, 1701.14.1040 1701.14.5000, 1701.91.1000, 1701.91.3000, 1701.99.1015, 1701.99.1017, 1701.99.1025, 1701.99.1050, 1701.99.5015, 1701.99.5017, 1701.99.5025, 1701.99.5050, and 1702.90.4000.⁷ The tariff classification is provided for convenience and customs purposes; however, the written description of the scope of this AD Agreement is dispositive.

⁷ Prior to July 1, 2016, merchandise covered by the AD Agreement was classified in the HTSUS under subheading 1701.99.1010. Prior to January 1, 2020, merchandise covered by the AD Agreement was classified in the HTSUS under subheadings 1701.14.1000 and 1701.99.5010.

Continuation of Suspension of Investigation

As a result of the respective determinations by Commerce and the ITC that termination of the AD Agreement and suspended AD investigation on Sugar from Mexico would likely lead to continuation or recurrence of dumping and material injury to an industry in the United States, consistent with section 751(d)(2) of the Act, Commerce hereby gives notice of the continuation of the AD Agreement. The effective date of continuation will be September 9, 2025.⁸ Pursuant to section 751(c)(2) of the Act and 19 CFR 351.218(c)(2), Commerce intends to initiate the next five-year review of the AD Agreement not later than 30 days prior to fifth anniversary of the date of the last determination by the ITC.

⁸ See ITC Final Determination.

Administrative Protective Order (APO)

This notice also serves as a final reminder to parties subject to an APO concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year sunset review and notice are in accordance with sections 751(c) and 751(d)(2) of the Act, and published in accordance with section 777(i) of the Act and 19 CFR 351.218(f)(4).

Dated: September 16, 2025.
Christopher Abbott,
Deputy Assistant Secretary for Policy and Negotiations, performing the non-exclusive functions and duties of the Assistant Secretary for Enforcement and Compliance.

[FR Doc. 2025-18222 Filed 9-18-25; 8:45 am]

BILLING CODE 3510-DS-P